NUCLEAR REGULATORY COMMISSION

Governors' Designees Receiving Advance Notification of Transportation of Nuclear Waste

On January 6, 1982 (47 FR 596 and 47 FR 600), the U.S. Nuclear Regulatory Commission (NRC) published in the Federal Register final amendments to Title 10 of the Code of Federal Regulations (CFR) Parts 71 and 73 (effective July 6, 1982), that require advance notification to Governors or their designees by NRC licensees prior to transportation of certain shipments of nuclear waste and spent fuel. The advance notification covered in Part 73 is for spent nuclear reactor fuel shipments and the notification for Part 71 is for large quantity shipments of radioactive waste (and of spent nuclear reactor fuel not covered under the final amendment to 10 CFR Part 73).

The following list updates the names, addresses, and telephone numbers of those individuals in each State who are responsible for receiving information on nuclear waste shipments. The list will be published annually in the Federal Register on or about June 30, 2010, to reflect any changes in information. Current State contact information can also be accessed throughout the year at http://nrc-stp.ornl.gov/special/designee.pdf.

Questions regarding this matter should be directed to Dr. Stephen N. Salomon, Office of Federal and State Materials and Environmental Management Programs, U.S. Nuclear Regulatory Commission, Washington, DC 20555, by e-mail at Stephen.Salomon@nrc.gov or by telephone at 301-415-2368.

Dated at Rockville, Maryland, this 25th day of June 2010.
For the U.S. Nuclear Regulatory Commission.
Mark Thaggard,
Deputy Director, Division of Intergovernmental Liaison and Rulemaking, Office of Federal and State Materials and Environmental Management Programs.

Individuals Receiving Advance Notification of Nuclear Waste Shipments
State | Part 71 | Part 73
Alabama | Colonel J. Christopher Murphy, Director, Alabama Department of Public Safety, P.O. Box 1511, Montgomery, AL 36102-1511, (334) 242-4394, 24 hours: (334) 242-4128, Fax: (334) 242-0512 | Same.
Alaska | Douglas H. Dasher, PE, Alaska Monitoring and Assessment Section Manager, 610 University Avenue, Fairbanks, AK 99709, (907) 451-2172, 24 hours: (907) 457-1421, Cell: (907) 347-7779, Fax: (907) 451-5146 | Same.
Arizona | Aubrey V. Godwin, Director, Arizona Radiation Regulatory Agency, 4814 South 40th Street, Phoenix, AZ 85040, (602) 255-4845, ext. 222, 24 hours: (602) 223-2212, Fax: (602) 437-0705 | Same.
Arkansas | Bernard Bevill, Radiation Control Section, Arkansas Department of Health, 4815 West Markham Street, Mail Slot #30, Little Rock, AR 72205-3867, (501) 661-2301, 24 hours: (501) 661-2136, Fax: (501) 661-2236 | Same.
California | Captain Steve Dowling, California Highway Patrol, Commercial Vehicle Section, 601 North 7th Street, Sacramento, CA 95811, (916) 843-3400, 24 hours: (916) 843-4199, Fax: (916) 332-3154 | Same.
Colorado | Captain Ron Prater, Troop 8-C, Hazardous Materials Unit, Colorado State Patrol, 15065 South Golden Road, Denver, CO 80401, (303) 273-1910, 24 hours: (303) 329-4501, Fax: (303) 273-1911 | Same.
Connecticut | Edward L. Wilds, Jr., PhD, Director, Radiation Division, Department of Environmental Protection, 79 Elm Street, Hartford, CT 06106-5127, (860) 424-3029, Cell: (860) 490-3211, 24 hours: (860) 424-3333, Fax: (860) 424-4065 | Same.
Delaware | Lewis D. Schiliro, Secretary, Department of Safety & Homeland Security, P.O. Box 818, Dover, DE 19903-0818, (302) 744-2665, 24 hours: Cell: (302) 242-9318, Fax: (302) 739-4874 | Same.
Florida | John A. Williamson, Environmental Administrator, Bureau of Radiation Control, Environmental Radiation Program, Department of Health, P.O. Box 680069, Orlando, FL 32868-0069, (407) 297-2096, Cell: (850) 528-4151, 24 hours: (407) 297-2095, Fax: (407) 297-2085 | Same.
Georgia | Captain Bruce Bugg, Region 4 Commander, Georgia Department of Public Safety, Motor Carrier Compliance Division, 317 Highway 11 SW., Monroe, GA 30655, (770) 464-1797, 24 hours: (404) 635-7200, Fax: (770) 359-5853 | Same.
Hawaii | Laurence K. Lau, Deputy Director for Environmental Health, Hawaii State Department of Health, P.O. Box 3378, Honolulu, HI 96813, (808) 586-4424, 24 hours: (808) 368-6004, Fax: (808) 586-4368
| Chiyome L. Fukino, M.D., Director of Health, Hawaii State Department of Health, Same address as above, (808) 586-4410, 24 hours: (808) 368-6002, Fax: (808) 586-4368 | Same.
Idaho | Lieutenant William L. Reese, Deputy Commander, Idaho State Police, Commercial Vehicle Safety, Hazardous Materials, Meridian, ID 83680-0700, (208) 884-7222, 24 hours: (208) 846-7500, Fax: (208) 884-7192 | Same.
Illinois | Joseph G. Klinger, Assistant Director, Illinois Emergency Management Agency, Division of Nuclear Safety, 1035 Outer Park Drive, 5th Floor, Springfield, IL 62704, (217) 785-9868, 24 hours: (217) 782-7860, Fax: (217) 782-7774, 24 hour fax: (217) 782-7774 | Same.
Indiana | Superintendent Paul Whitesell, PhD, Indiana State Police, Commercial Motor Vehicle Enforcement, Division IGCN, 100 N. Senate Avenue, 3rd Floor, Indianapolis, IN 46204, (317) 232-8248, 24 hours: (317) 232-8248, Fax: (317) 317-2350 | Same.
Iowa | David L. Miller, Administrator, Iowa Homeland Security and Emergency Management Division, 7105 Northwest 70th Avenue, Camp Dodge, Building W-4, Johnston, IA 50131, (515) 725-3231, 24 hours: (515) 725-3231, Fax: (515) 725-3260 | Same.
Kansas | Jennifer Clark, Technological Hazards Section Chief, Department of the Adjutant General, Division of Emergency Management, 2800 SW. Topeka Boulevard, Topeka, KS 66611-1287, (785) 274-1394, 24 hours: (785) 296-3176, Fax: (785) 274-1426 | Same.
Kentucky | Dewey Crawford, Manager, Radiation Health and Toxic Agents Branch, Cabinet for Health and Family Services, 275 East Main Street, Mail Stop HS-1C-A, Frankfort, KY 40621-0001, (502) 564-3700, ext. 3695, 24 hours: (502) 229-6254, Fax: (502) 564-1492 | Same.
Louisiana | Captain Allen T. Moss, Louisiana State Police, 7919 Independence Boulevard, P.O. Box 66168, Baton Rouge, LA 70896-6168, (225) 925-6113, ext. 241, 24 hours: (877) 925-6595, Fax: (225) 925-3559 | Same.
Maine | Colonel Patrick Fleming, Chief of the State Police, Maine Department of Public Safety, 42 State House Station, Augusta, ME 04333-0042, (207) 624-7206 or (207) 624-7200, 24 hours: (207) 624-7076, Fax: (207) 287-3042 | Same.
Maryland | Michael Bennett, Director, Electronic Systems Division, Maryland State Police, 1201 Reisterstown Road, Pikesville, MD 21208, (410) 653-4229, 24 hours: (410) 653-4200, Fax: (410) 653-4269 | Same.
Massachusetts | Robert L. Gallaghar, Acting Director, Radiation Control Program, Massachusetts Department of Public Health, Shraffts Center, Suite 1M2A, 529 Main Street, Charlestown, MA 02129, (617) 242-3035 x2001, 24 hours: (617) 242-3453, Fax: (617) 242-3457 | Same.
Michigan | Captain Gary Nix, Commander, Special Operations Division, Michigan State Police, 4000 Collins Rd, Lansing, MI 48910, (517) 336-6136, 24 hours: (517) 241-8000, Fax: (517) 241-8000 | Same.
Minnesota | Kevin C. Leuer, Director, Preparedness Branch, Minnesota Division of Homeland Security &, Emergency Management, 444 Cedar Street, Suite 223, St. Paul, MN 55101-6223, (651) 201-7406, 24 hours: (651) 649-5451 or 1-800-422-0798, Fax: (651) 296-0459 | Same.
Mississippi | Brian E. Maske, HAZMAT/WIPP, Program Manager, Planner—Districts 2 & 4, LEPC Coordinator, Mississippi Emergency Management Agency, Office of Preparedness-Plans Bureau, P.O. Box 5644, #1 MEMA Drive 39208, Pearl, MS 39288, (601) 933-6369, 24 hours: (601) 933-6362, Fax: (601) 933-6815 | Same.
Missouri | Paul D. Parmenter, Director, Emergency Management Agency, P.O. Box 116, 2302 Militia Drive, Jefferson City, MO 65102, (573) 526-9101, 24 hours: (573) 751-2748, Fax: (573) 634-7966 | Same.
| Alternate: Timothy A. Diemler, Deputy Director, (573) 751-9193. Other numbers the same
Montana | Ed Tinsley, Administrator, Homeland Security Advisor, Montana Disaster & Emergency Services, 1956 MT Majo Street, P.O. Box 4789, Fort Harrison, MT 59636-4789, (406) 841-3911, Cell: (406) 672-9906, Fax: (406) 841-3965, 24 hours: (406) 841-3911 | Same.
Nebraska | Lieutenant Carla Schreiber, Nebraska State Patrol, P.O. Box 94907, 3800 NW. 12th Street, Lincoln, NE 68521, (402) 479-4031, 24 hours: (402) 471-4545, Fax: (402) 479-4950 | Same.
Nevada | Karen K. Beckley, Program Manager, Radiation Control, Bureau of Health Care Quality and Compliance, Nevada State Health Division, 4150 Technology Way, Suite 300, Carson City, NV 89706, (775) 687-7540, 24 hours: 1-877-438-7231, Fax: (775) 687-7552 | Same.
New Hampshire | Sergeant Nathan Boothby, New Hampshire State Police—Troop G, 33 Hazen Drive, Concord, NH 03305, (603) 223-8909, 24 hours: (603) 271-3636, Fax: (603) 271-1760 | Same.
New Jersey | Paul Baldauf, Assistant Director, Radiation Protection Programs, Division of Environmental Safety, Health & Analytical Programs, Department of Environmental Protection, P.O. Box 415, Trenton, NJ 08625-0415, (609) 984-5636, 24 hours: (609) 658-3072, Fax: (609) 633-2210 | Same.
New Mexico | Don Shainin, Technical Hazards Unit Leader, WIPP Program Manager, New Mexico Department of Homeland Security and Emergency Management (DHSEM), P.O. Box 27111, Santa Fe, NM 87502, (505) 476-9628, 24 hours: (505) 476-9635, Fax: (505) 476-9695 | Same.
New York | John R. Gibb, Director, New York State Emergency Management Office, 1220 Washington Avenue, Building 22—Suite 101, Albany, NY 12226-2251, (518) 292-2301, Cell: (518) 469-0000, 24 hours: (518) 292-2200, Fax: (518) 322-4978 | Same.
North Carolina | First Sergeant Shane S. Manuel, North Carolina Highway Patrol, Special Operations Section, 1142 Southeast Maynard Road, Cary, NC 27511, (919) 319-1523, Cell: (919) 618-0434, 24 hours: (919) 733-3861, Fax: (919) 319-1534 | Same.
North Dakota | Terry L. O'Clair, Director, Division of Air Quality, North Dakota Department of Health, 918 East Divide Avenue—2nd Floor, Bismarck, ND 58501-1947, (701) 328-5188, 24 hours: (701) 328-9921, Fax: (701) 328-5185 | Same.
Ohio | Carol A. O'Claire, Chief, Radiological Branch, Ohio Emergency Management Agency, 2855 West Dublin Granville Road, Columbus, OH 43235-2206, (614) 799-3915, 24 hours: (614) 889-7150, Fax: (614) 799-5950 | Same.
Oklahoma | Major Mike Thompson #17, Zone Commander, Oklahoma Highway Patrol, P.O. Box 11415, Oklahoma City, OK 73136-0145, (405) 425-7701, 24 hours: (405) 425-2323, Fax: (405) 425-2254 | Same.
Oregon | Ken Niles, Administrator, Nuclear Safety and Energy Emergency Preparedness Division, Oregon Department of Energy, 625 Marion Street, NE., Salem, OR 97301, (503) 378-4906, Cell: (503) 884-3905, 24 hours: (503) 378-6377, Fax: (503) 378-6457 | Same.
Pennsylvania | Richard Flinn, Deputy Director for Operations, Pennsylvania Emergency Management Agency, 2605 Interstate Drive, Harrisburg, PA 17110-3321, (717) 651-2001, 24 hours: (717) 651-2021, Fax: (717) 651-2021 | Same.
Rhode Island | Terrence Mercer, Associate Administrator, Motor Carriers Section, Division of Public Utilities and Carriers, 89 Jefferson Boulevard, Warwick, RI 02888, (401) 941-4500, Ext. 150, 24 hours: (401) 444-1183 (State Police) | Same.
South Carolina | Susan Jenkins, Bureau of Land and Waste Management, Department of Health & Environmental Control, 2600 Bull Street, Columbia, SC 29201, (803) 896-4271, 24 hours: (803) 667-0019 or (803) 408-2816, Fax: (803) 896-4242 | Same.
South Dakota | Kristi Turman, Director, South Dakota Department of Public Safety, Dept. of Emergency Management, 118 W. Capitol Avenue, Pierre, SD 57501-2000, (605) 773-3231, 24 hours: (605) 773-3231, Fax: (605) 773-3580 | Same.
Tennessee | Elgan Usrey, Assistant Director, Preparedness, Tennessee Emergency Management Agency, 3041 Sidco Drive, Nashville, TN 37204-1502, (615) 741-2879, Cell: (615) 476-3204, 24 hours: (615) 741-0001, Fax: (615) 741-0006 | Same.
Texas | Richard A. Ratliff, P.E. L.M.P., Radiation Safety Licensing Branch Manager, Division for Regulatory Services, Texas Department of State Health Services, Mail Code 2835, P.O. Box 149347, Austin, TX 78714-9347, (512) 834-6679, 24 hours: (512) 458-7460, Fax: (512) 834-6716 | Steven C. McCraw, Director, Texas Office of Homeland Security, P.O. Box 4087, Austin, TX 78773, 24 hours: (512) 424-2208, Fax: (512) 424-7160.
Utah | Dane Finerfrock, Director, Division of Radiation Control, Department of Environmental Quality, 195 North 1950 West, P.O. Box 144850, Salt Lake City, UT 84114-4850, (801) 536-4257, 24 hours: (801) 536-4123, Fax: (801) 553-4097 | Same.
Vermont | Thomas R. Tremblay, Commissioner, Department of Public Safety, Division of Vermont State Police, 103 South Main Street, Waterbury, VT 05671-2101, (802) 844-8718, 24 hours: (802) 244-8727, Fax: (802) 241-5377 | Same.
Virginia | Gregory F. Britt, Director, Technological Hazards Division, Virginia Department of Emergency Management, 10501 Trade Court, Richmond, VA 23236, (804) 897-6500, ext. 6578, 24 hours: (804) 674-2400 or 1-800-468-8892, Fax: (804) 897-6576 | Same.
Washington | Lieutenant Kevin Zeller, Commercial Vehicle Division, Washington State Patrol, P.O. Box 42600, Olympia, WA 98504-2600, (360) 596-3802, Cell: (360) 239-2475, 24 hours: (253) 536-6210, Fax: (360) 596-3829 | Same.
West Virginia | Lieutenant Colonel B.A. Sloan, West Virginia State Police, 725 Jefferson Road, South Charleston, WV 25309, (304) 746-2111, 24 hours: (304) 746-2158, Fax: (304) 746-2246 | Same.
Wisconsin | Scott Legwold, Acting Administrator, Wisconsin Emergency Management, P.O. Box 7865, Madison, WI 53707-7865, 608-242-3210, 24 hour: (608) 242-3232, Fax: (608) 242-3241 | Same.
Wyoming | Captain Shannon Ratliff, Support Services Officer, Commercial Carrier, Wyoming Highway Patrol, 5300 Bishop Boulevard, Cheyenne, WY 82009-3340, (307) 777-4312, Cell: (307) 630-0197, 24 hours: (307) 777-4321, Fax: (307) 777-4282 | Same.
District of Columbia | Gregory B. Talley, Program Manager, Radiation Protection Division, Health, Regulation & Licensing Administration, District of Columbia Department of Health, 717 14th Street, NE., Room 639, Washington, DC 20005, (202) 741-7686, 24 hours: (202) 727-1000, Fax: (202) 727-8471 | Same.
Puerto Rico | Dr. Jaime Rivera-Dueño, Secretary of Health, P.O. Box 70184, San Juan, PR 00936-8184, (787) 765-2929, ext. 3377, 24 hours: (787) 765-2929, ext. 3377, Fax: (787) 274-3384 | Same.
Guam | Lorilee T. Crisostomo, Administrator, Guam Environmental Protection Agency, P.O. Box 22439, Barrigada, Guam 96921, (671) 475-1658, 24 hours: (671) 635-9500, Fax: (671) 477-9402 | Same.
Virgin Islands | Robert S. Mathes, Commissioner, Department of Planning and Natural Resources, 8100 Linberg Bay, Ste #61, Cyril E. King Airport, Terminal Bldg., 2nd Floor, St. Thomas, Virgin Islands 00802, (340) 774-3320, ext. 5102, 24 hours: (340) 774-5138, Fax: (340) 775-5706 | Same.
American Samoa | Pati Faiai, Government Ecologist, American Samoa Environmental Protection Agency, Office of the Governor, Pago Pago, American Samoa 96799, (684) 633-2304, 24 hours: (684) 622-7106, Fax: (684) 633-2269 | Same.
Commonwealth of the Northern Mariana Islands | Dr. Ignacio T. dela Cruz, D.V.M., Secretary, Department of Lands & Natural Resources, Commonwealth of Northern Mariana Islands, Caller Box 10007, Saipan, MP 96950, (670) 322-9830, (670) 322-2633, Fax: (670) 322-2633 | Same.

[FR Doc. 2010-16090 Filed 6-30-10; 8:45 am]

BILLING CODE 7590-01-P